DEPARTMENT OF HOMELAND SECURITY

Coast Guard

[Docket No. USCG-2011-0204]

Navigation Safety Advisory Council

AGENCY: Coast Guard, DHS.

ACTION: Notice of Federal Advisory Committee Meeting.

SUMMARY: The Navigation Safety Advisory Council (NAVSAC) will meet on November 1-2, 2011, in San Diego, California to discuss matters relating to maritime collisions, rammings, groundings, Inland and International Rules of the Road, navigation regulations and equipment, routing measures, marine information, diving safety, and aids to navigation systems. The meeting will be open to the public.

DATES: NAVSAC will meet Tuesday, November 1, 2011, from 8 a.m. to 5 p.m., and Wednesday, November 2, 2011, from 8 a.m. to 1 p.m. Please note that the meeting may close early if the committee has completed its business.

ADDRESSES: The meeting will be held at the Catamaran Resort Hotel and Spa, 3999 Mission Boulevard, San Diego, California 92109.

For information on facilities or services for individuals with disabilities or to request special assistance at the meeting, contact the persons listed in FOR FURTHER INFORMATION CONTACT as soon as possible.

To facilitate public participation, we are inviting public comment on the issues to be considered by the committee as listed in the “Agenda” section below. You may submit presentations and/or written comments no later than October 24, 2011, and they must be identified by USCG-2011-0204 using one of the following methods:

• Federal eRulemaking Portal: http://www.regulations.gov. Follow the instructions for submitting comments (preferred method to avoid delays in processing).

• Fax: 202-493-2251.

• Mail: Docket Management Facility (M-30), U.S. Department of Transportation, West Building Ground Floor, Room W12-140, 1200 New Jersey Avenue, SE., Washington, DC 20590-0001.

• Hand delivery: Same as mail address above, between 9 a.m. and 5 p.m., Monday through Friday, except Federal holidays. The telephone number is 202-366-9329.

Instructions: All submissions received must include the words “Department of Homeland Security” and the docket number for this action. Comments received will be posted without alteration at http://www.regulations.gov, including any personal information provided. You may review a Privacy Act notice regarding our public dockets in the January 17, 2008, issue of the Federal Register (73 FR 3316).

Docket: For access to the docket to read documents or comments related to this notice, go to http://www.regulations.gov., click on the “read comments” box, which will then become highlighted in blue. In the “Keyword” box insert “USCG-2011-0204” and click “Search.” Click the “Open Docket Folder” in the “Actions” column. If you do not have access to the internet, you may view the docket online by visiting the Docket Management Facility in Room W12-140 on the ground floor of the Department of Transportation West Building, 1200 New Jersey Avenue, SE., Washington, DC 20590, between 9 a.m. and 5 p.m., Monday through Friday, except Federal holidays. We have an agreement with the Department of Transportation to use the Docket Management Facility.

Public comments may be taken by the DFO throughout the conduct of the meeting. Additionally, a public presentation/comment period will be held during the meeting on November 1, 2011, from 3 p.m. to 4 p.m., and November 2, 2011, from 12 p.m. to 1 p.m. Speakers are requested to limit their presentations/comments to 10 minutes. Please note that the public comment period may end before the time indicated, following the last call for comments. Contact either of the individuals listed in the FOR FURTHER INFORMATION CONTACT to submit written comments to appear on the agenda.

FOR FURTHER INFORMATION CONTACT: If you have questions about this meeting, please contact Mr. Mike Sollosi, the NAVSAC Alternate Designated Federal Officer (ADFO), at telephone 202-372-1545 or e-mail mike.m.sollosi@uscg.mil, or Mr. Dennis Fahr, at telephone 202-372-1531 or e-mail dennis.fahr@uscg.mil. If you have questions on viewing or submitting material to the docket, call Renee V. Wright, Program Manager, Docket Operations, telephone 202-366-9826.

SUPPLEMENTARY INFORMATION: Notice of this meeting is given under the Federal Advisory Committee Act (FACA), 5 U.S.C. App. (Pub. L. 92-463).

The NAVSAC is an advisory committee authorized in 33 U.S.C. 2073 and chartered under the provisions of the FACA. NAVSAC provides advice and recommendations to the Secretary, through the Commandant of the U.S. Coast Guard, on matters relating to maritime collisions, rammings, and groundings, Inland and International Rules of the Road, navigation regulations and equipment, routing measures, marine information, diving safety, and aids to navigation systems.

Agenda

The NAVSAC will meet to review, discuss and formulate recommendations on the following topics:

Tuesday, November 1, 2011

(1) Navigation Rules Regulatory Project. This topic will address the Coast Guard's progress toward implementing NAVSAC approved changes to the Inland Navigation Rules.

(2) E-Navigation Strategy. Under the auspices of the Committee on the Marine Transportation System, the Coast Guard and other agencies have developed a National e-Navigation Strategy that will establish a framework for data exchange between and among ships and shore facilities. The Council will be updated on that effort.

(3) Electronic Chart Display and Information System (ECDIS)Anomalies. Mandatory carriage of ECDIS will be phased in beginning in 2012. This series of presentations will inform the Council of developments and difficulties encountered in deploying ECDIS, including accuracy of charted positions, the range of vessels to be impacted, and training requirements for ECDIS.

The following tasks will also be discussed and further action contemplated by work groups assigned for each task:

(1) NAVSAC Task 11-01 Kite Propulsion Systems (Sky Sails). The use of Sky Sails to augment propulsion on vessels is a real possibility. This task will address whether there should be restrictions on their use.

(2) NAVSAC Task 11-02 Proximity of Offshore Energy Installations (OREI) to established ships' routing measures. The Council will be asked to complete the discussion on the need for “buffer zones” around offshore renewable energy.

(3) NAVSAC Task 11-03 RACONS. The Council will be asked to discuss and provide an opinion on the continued used of radar beacons (RACONS) as aids to navigation.

(4) NAVSAC Task 11-04 Sound Signals. The Council will be asked to discuss and provide an opinion on the continued use of sound signals as aids to navigation.

(5) NAVSAC Task 11-05 ECDIS Anomalies. The Council will be advised of the current status of Electronic Chart Display and Information Systems (ECDIS) and of the types of anomalies being discovered as more ECDIS enter into use.

(6) NAVSAC Task 11-06 e-Nav Strategy. The Council will be advised of the current status of the United States' e-Navigation Strategy development.

(7) NAVSAC Task 11-07 Virtual Aids to Navigation Aids. Navigation authorities are considering deploying virtual aids to navigation as an alternative to physical lights, daybeacons and buoys under certain circumstances. This topic will inform the Council on virtual aids and discuss their possible use in United States' waters.

(8) NAVSAC Task 11-08 Crew Fatigue. The Council will discuss the unintended consequences some regulations are causing regarding crew endurance and crew fatigue.

A public presentation/comment period will be held from 3 to 4 p.m. Speakers' presentations/comments are limited to 10 minutes each.

Wednesday, November 2, 2011

(1) Task Working Group Discussions continue from November 1, 2011.

(2) Working Group Reports presented to council.

(3) New Business:

a. IMO Safety Navigation Subcommittee.

The Coast Guard will update the Council on recent decisions and planned outputs of the IMO Safety Navigation Subcommittee.

b. Summary of NAVSAC Action Items.

c. Schedule Next Meeting Date—Spring 2012.

d. Committee discussion of new tasks.

(4) A public presentation/comment period will be held after the discussion of new tasks. Speakers' presentations/comments are limited to 10 minutes each.

Dated: October 11, 2011.
Dana A. Goward,
Director, Marine Transportation Systems Management U.S. Coast Guard.

[FR Doc. 2011-26641 Filed 10-13-11; 8:45 am]

BILLING CODE 9110-04-P